DEPARTMENT OF LABOR

Employment and Training Administration

[TA-W-40,326]

Jones and Vining, Inc., Lewiston, ME; Dismissal of Application for Reconsideration

Pursuant to 29 CFR 90.18(C) an application for administrative reconsideration was filed with the Director of the Division of Trade Adjustment Assistance for workers at Jones and Vining, Inc., Lewiston, Maine. The application contained no new substantial information which would bear importantly on the Department's determination. Therefore, dismissal of the application was issued.

TA-W-40,326; Jones and Vining, Inc. Lewiston, Maine (January 30, 2002)

Signed at Washington, DC this 30th day of January, 2002.
Edward A. Tomchick,
Director, Division of Trade Adjustment Assistance.

[FR Doc. 02-3401 Filed 2-12-02; 8:45 am]

BILLING CODE 4510-30-M